DEPARTMENT OF AGRICULTURE

Commodity Credit Corporation

Cooperative Conservation Partnership Initiative and Wetlands Reserve Enhancement Program

AGENCY: Commodity Credit Corporation and Natural Resources Conservation Service, United States Department of Agriculture.

ACTION: Notice of request for proposals through the Mississippi River Basin Healthy Watersheds Initiative.

SUMMARY: The Natural Resources Conservation Service (NRCS) announces the availability of financial assistance funds in fiscal year (FY) 2011 for up to $15 million in the Cooperative Conservation Partnership Initiative (CCPI) and up to $25 million in the Wetlands Reserve Enhancement Program (WREP) through the Mississippi River Basin Healthy Watersheds Initiative (MRBI). These funding levels are available for new MRBI proposals only. However, CCPI and WREP will not be the only funding mechanisms for MRBI in FY 2011. The Chief of NRCS reserves discretion in utilizing other NRCS conservation program funds and mechanisms in support of the objectives of MRBI.

Through agreements, partners and NRCS will provide assistance to eligible participants in the 43 designated focus areas (8-digit HUCs) in the following 13 States: Arkansas, Illinois, Indiana, Iowa, Kentucky, Louisiana, Minnesota, Mississippi, Missouri, Ohio, Tennessee, South Dakota, and Wisconsin. The purpose of this notice is to solicit proposals from potential partners to enter into agreements with NRCS and to inform agricultural producers and landowners of the future availability of program funds through approved partnership projects. Proposals must be based on one or more 12-digit HUCs within the 43 designated focus areas. Partners who are currently involved in approved MRBI agreements through CCPI or WREP and want to work in other 12-digit watersheds must submit new proposals for a new project.

DATES: Eligible partners may submit proposals for MRBI-CCPI and/or MRBI-WREP via email or U.S. Postal Service; however, all proposals must be received on or before January 28, 2011.

ADDRESSES: Applicants are encouraged to submit proposals electronically to MRBI-CCPI@wdc.usda.gov for CCPI and MRBI-WREP@wdc.usda.gov for WREP. If submitting a paper proposal, the proposal may be mailed to: Troy Daniell, Initiatives Coordinator, Conservation Initiatives Team, Natural Resources Conservation Service, P.O. Box 2890, Washington, DC 20013.

Do not send submissions via registered or certified mail. Do not send the same proposal both electronically and to the P.O. Box address; use only one method to submit a proposal. If submitting more than one project proposal, please submit each separately.

FOR FURTHER INFORMATION CONTACT: Troy Daniell, Initiatives Coordinator, Conservation Initiatives Team, Natural Resources Conservation Service; Telephone: (202) 690-2825; e-mail: Troy.Daniell@wdc.usda.gov.

Persons with disabilities who require alternative means for communication (Braille, large print, audio tape, etc.) should contact the USDA TARGET Center at: (202) 720-2600 (voice and TDD).

SUPPLEMENTARY INFORMATION:

Part A—General WREP and CCPI Proposal Information

Focus Area Watersheds

Forty-three focus area (8-digit hydrologic unit code (HUC)) watersheds have been selected by NRCS State Conservationists, with input from the State Technical Committees and State water quality agencies, to help improve water quality by reducing nitrogen and sediment levels in the watersheds of the Mississippi River Basin, as well as improve wildlife habitat and restore wetlands. The designated 8-digit HUC focus areas are listed below. A complete list of the smaller-scale, 12-digit HUC sub-watersheds within the designated 8-digit HUC focus areas can be found at: http://www.nrcs.usda.gov/programs/mrbi/unit_code_lists.html.

Designated Focus Areas for the MRBI FY 2011 (8-Digit HUCs)
State(s) | Watershed | Hydrologic Unit Code
Arkansas/Missouri | Cache | 08020302
Arkansas | Lake Conway-Point Remove | 11110203
Arkansas | L'Anguille | 08020205
Arkansas/Missouri | Lower St. Francis | 08020203
Illinois | Lower Illinois-Senachwine Lake | 07130001
Illinois | Upper Illinois | 07130005
Illinois | Vermillion (Upper Mississippi River sub-basin) | 07130002
Illinois/Indiana | Vermillion (Upper Ohio River sub-basin) | 05120109
Indiana | Eel | 05120104
Indiana | Upper East Fork White | 05120206
Indiana | Wildcat | 05120107
Indiana/Ohio | Upper Wabash | 05120101
Iowa | Boone | 07100005
Iowa | Maquoketa | 07060006
Iowa | North Raccoon | 07100006
Iowa/Minnesota | Upper Cedar | 07080201
Kentucky/Tennessee | Bayou De Chien-Mayfield | 08010201
Kentucky | Licking | 05100101
Kentucky | Lower Green | 05110005
Louisiana | Mermentau | 08080202
Louisiana/Arkansas | Bayou Macon | 08050002
Louisiana/Arkansas | Boeuf River | 08050001
Minnesota | Middle Minnesota | 07020007
Minnesota | Root | 07040008
Minnesota | Sauk | 07010202
Mississippi | Big Sunflower | 08030207
Mississippi/Louisiana/Arkansas | Deer-Steele | 08030209
Mississippi | Upper Yazoo | 08030206
Missouri/Iowa | Lower Grand | 10280103
Mississippi | Coldwater Creek | 08030204
Missouri | North Fork Salt | 07110005
Missouri | South Fork Salt | 07110006
Missouri/Arkansas | Little River Ditches | 08020204
Ohio/Indiana | Upper Great Miami | 05080001
Ohio | Upper Scioto | 05060001
Tennessee | Forked Deer | 08010206
Tennessee/Kentucky | Obion | 08010202
Tennessee | South Fork Obion | 08010203
Tennessee/Kentucky | Red River | 05130206
South Dakota/Minnesota | Upper Minnesota | 07020001
Wisconsin/Illinois | Sugar | 07090004
Wisconsin/Illinois | Upper Rock | 07090001
Wisconsin/Illinois | Pecatonica | 07090003

Under MRBI, NRCS works with partners through CCPI and WREP to help address conservation concerns and opportunities within the watershed of the Mississippi River Basin. In approved MRBI-CCPI project areas, NRCS will make Environmental Quality Incentives Program (EQIP), Conservation Stewardship Program (CSP), and Wildlife Habitat Incentive Program (WHIP) funds available to eligible producers consistent with the proposal design as much as possible. In approved MRBI-WREP project areas, funds are available through the Wetlands Reserve Program (WRP).

Proposal Submission, Review, and Notification

Potential partners are highly encouraged to submit proposals to the email address provided in the “Addresses” section of this notice. If the proposal is submitted in hard copy, the potential partner must submit two copies of the proposal, typewritten or printed on 8½″ x 11″ white paper. The entire project proposal, not including letters of support, cannot exceed 12 pages in length including a summary, responses to the information requested in this RFP, maps, and other supporting documents. The proposal must address, in sufficient detail, all the criteria outlined in the “Proposal Requirements” section of this notice in order to be considered.

MRBI-CCPI and MRBI-WREP proposals submitted to NRCS become the property of the agency for use in the administration of the program, may be filed or disposed of by the agency, and will not be returned to the potential partner. Once proposals have been submitted for review and ranking, there will be no further opportunity for the potential partner to change or re-submit the proposal; however, NRCS may request certain changes before finalizing the selection and approval of a project. Incomplete proposals or those that do not meet the requirements set forth in this notice will not be considered, and notification of elimination will be mailed to the applicant. Partner proposals may be withdrawn by written notice to Troy Daniell, Initiatives Coordinator, Conservation Initiatives Team, at any time prior to selection (see “Addresses” section in this notice).

NRCS will review, evaluate, and rank proposals based on the criteria set forth in the respective “Proposal Requirements” sections of this notice for both MRBI-CCPI and MRBI-WREP. Potential partners should recognize that the proposal is the only document NRCS will use in the evaluation process. The proposal must request NRCS program funds for obligation beginning in FY 2011 (October 1, 2010-September 30, 2011). Proposals which request funding with obligation starting after FY 2011 will not be evaluated or considered under this request for proposals.

Partners whose proposals have been selected will receive an official letter of notification. Upon notification of selection, the partner should contact the appropriate State Conservationist(s) to develop the required partnership agreement and other project implementation requirements. Potential partners should note that, depending upon available funding and agency priorities, NRCS may offer a reduced amount of program financial assistance from what was requested in the proposal and may require adjustments to the proposal as a condition of approval to meet program or other requirements. Partner submissions of proposals that are not selected will also be notified by mail.

State Conservationist(s) Proposal Review

Once a project proposal is received, the agency will provide a copy of it to the appropriate State Conservationist(s). State Conservationist(s) will review the proposals to:

(a) Document potential duplication with other projects or existing programs;

(b) Ensure adherence to and consistency with program regulation, including requirements related to land and landowner eligibility and other program requirements;

(c) Address expected benefits for project implementation in their State(s);

(d) For multi-State proposals, coordinate with all State Conservationists involved in the proposal to verify there is concurrence and support for the project;

(e) Identify other issues or concerns that should be considered; and

(f) Provide a recommendation to the NRCS Chief for approval or disapproval of the project.

Waiver Authority

To assist in the implementation of approved WREP and CCPI projects, the Chief may waive the applicability of the Adjusted Gross Income Limitation, on a case-by-case basis, in accordance with 7 CFR part 1400. Such waiver requests must be submitted in writing from the program applicant, not the sponsoring partner, addressed to the Chief, and submitted through the local NRCS designated conservationist.

Part B—The Cooperative Conservation Partnership Initiative (CCPI) Component of MRBI

To improve the health of the watersheds within the Mississippi River Basin, NRCS and its partners will help producers to voluntarily implement conservation practices that avoid, control, and trap nutrient runoff; improve wildlife habitat; restore wetlands; and maintain agricultural productivity. These improvements will be accomplished through a conservation systems approach to address water quality, wetland, and wildlife related resource concerns. NRCS will provide producers assistance in implementing a suite of practices that will reduce the impacts of nutrients and sediment leaving agricultural fields.

Overview of the CCPI

The CCPI is a voluntary conservation initiative that enables the use of certain conservation programs, combined with resources from eligible partners, to provide financial and technical assistance to owners and operators of agricultural and nonindustrial private forest lands in order to enhance conservation outcomes and achieve resource conservation objectives. The functions of CCPI can best be described in two parts: CCPI partnerships and CCPI program participation.

CCPI Partnerships

Under CCPI, eligible potential partners may submit proposals addressing the criteria that are outlined in this request for proposals. Partners who may enter into partnership agreements with NRCS include federally recognized Indian tribes, State and local units of government, producer associations, farmer cooperatives, institutions of higher education, and nongovernmental organizations with a history of working cooperatively with producers to effectively address conservation priorities related to agricultural production and nonindustrial private forest land. Individual agricultural producers are not an eligible partner entity and may not submit CCPI proposals. However, individual agricultural producers can participate by applying for program assistance in the approved proposal areas, through their local NRCS office.

Proposals will be evaluated through a competitive review process. After selection, the partners will enter into a partnership agreement with NRCS. The partnership agreement will not obligate funds, but will address the:

(a) Role of the partner;

(b) Role of NRCS;

(c) Responsibilities of the partner as it relates to the monitoring and evaluation;

(d) Frequency and duration of monitoring and evaluation to be completed by the partner;

(e) Format and frequency of reports that are required as a condition of the partnership agreement;

(f) Budget which includes other funding sources (if applicable) for financial and technical assistance;

(g) Specified project schedule and timeframe; and

(h) Other requirements deemed necessary by NRCS to further the purposes of MRBI.

Where flexibility is needed to meet project objectives, the partner may request that program adjustments be allowed, provided such adjustments are within the scope of the applicable programs' statutory and regulatory program authorities. An example of an adjustment may be to expedite the applicable program ranking process in a situation where a partner has identified the producers approved to participate in the project. Other examples of flexibilities are payments rates, or use of a single area-wide conservation plan of operations rather than individual conservation plans of operation. An example of an ineligible flexibility would be to request funds for activities that do not meet NRCS conservation practice standards.

CCPI is not a grant program, and all Federal funds made available through this request for proposals will be paid directly to producers through program contract agreements. If desired, producers may elect to have their payments assigned to another party. No technical assistance funding may be provided to a partner through the CCPI partner agreement. However, if requested by a partner, the State Conservationist may consider development of a separate contribution agreement with a qualified partner to provide funding for delivery of technical services to producers participating in an approved CCPI project.

CCPI Program Participation

Once the agency approves and announces the selected partner projects, eligible agricultural producers located within the approved project areas may apply directly to NRCS for funding through one or more of the following programs: EQIP, CSP, or WHIP. CCPI uses the funds, policies, and processes of these programs to deliver assistance to eligible producers to implement approved core and supporting conservation practices, enhancements, and activities under MRBI. Producers interested in applying must meet the eligibility requirements of the program for which they are applying. Individual applications from eligible producers will be evaluated and ranked to ensure that producer applications selected for funding are most likely to achieve project objectives. Once applications are selected, the producers may enter into one or more contracts or cost-share agreements with NRCS within one or more of the programs offered under CCPI. During FY 2011, an objective of MRBI-CCPI is to deliver EQIP, CSP, and WHIP assistance to producers to achieve MRBI priority conservation objectives in geographic areas defined by the partner. Depending upon the program available in the project area, the assistance provided enables eligible producers to implement conservation practices and enhancements, including the development and adoption of innovative conservation practices and management approaches.

Availability of Funding

Effective on the publication date of this notice, the CCC announces the availability of up to $9 million in EQIP and $500,000 in WHIP financial assistance; and 278,000 acres in CSP for MRBI-CCPI during FY 2011.

Proposal Requirements

The proposal must include the following:

(1) Proposal Cover and Summary:

(a) Project Title.

(b) Project director/manager name, telephone number, and mailing and email addresses.

(c) Name and contact information for lead partner entity submitting proposal and other collaborating partners.

(d) Short summary of project including:

i. Project start and end dates (not to exceed a period of 4 years),

ii. Designated 12-digit HUC, or contiguous multiple 12-digit HUCs sub-watersheds where the project is located, including the State(s) and county(s),

iii. General project objectives and resource concerns to be addressed as they relate to MRBI priorities and objectives,

iv. Total amount of CCPI financial assistance being requested by program, and

v. Whether the MRBI-CCPI proposal will be used in conjunction with a MRBI-WREP, MRBI-CIG, or other Federal programs to meet MRBI objectives. Include the name of that project and the associated Federal agency. (Note: Federal funds cannot be used as a match to the funds provided by NRCS.)

(2) Project Natural Resource Objectives and Concerns:

(a) Identify and provide detail about the project objectives. Objectives should be specific, measureable, achievable, and results-oriented.

(b) Identify and provide detail about the natural resource concern(s) to be addressed in this project. Include in this description how the proposal objectives will address the priority MRBI resource concerns of water quality, wetland restoration, and improved wildlife habitat. Potential partners will work with the State Conservationist(s) to ensure the priority resource concerns are addressed by utilizing approved conservation practices, enhancements and activities, and conservation program requirements. A list of NRCS approved natural resource concerns for MRBI may be found on the MRBI Web site at http://www.nrcs.usda.gov/programs/mrbi/mrbi_overview.html.

(3) Detailed Project Description:

(a) A detailed description of the geographic area covered by the proposal, including:

i. Types of land uses to be treated, and

ii. The location and size of the proposed project area and what 12-digit HUC sub-watershed(s) the project will be within.

(b) A detailed map showing the project area. Include on the map:

i. Outlined areas that need conservation treatments,

ii. Location where conservation treatments are needed, and

iii. Priority order for the different areas to be treated.

(c) A description of the project timeline. Include:

i. Duration of the project, not to exceed 4 consecutive years in length beginning in FY 2011,

ii. Project implementation schedule that details when different objectives and conservation practices and enhancements will be completed,

iii. When partner and Federal resources will be used within the timeframe of the project. Include the total amount of financial assistance funds requested for each fiscal year of the project to be made available for producer contracts and cost-share agreements (for multi-State projects, provide the funds or acres by State as appropriate), and

iv. When the final project report will be submitted.

(d) A description of the plan for evaluating and reporting on progress made toward achieving the objectives of the agreement.

(e) Identify potential criteria to be used by NRCS to prioritize and rank agricultural producers' applications for EQIP, CSP, and WHIP in the project area. Potential partners should collaborate with NRCS to develop meaningful criteria that NRCS can use to evaluate and rank producer program applications. This will ensure that producer applications which will best accomplish MRBI objectives will be selected.

(f) An estimate of the percentage of producers, including nonindustrial private forest landowners, in the project area that may participate in the project along with an estimate of the total number of producers located in the project area. Provide details about additional information such as how the partner will encourage producer participation; does the project include any tribal producers, beginning farmers or ranchers, socially disadvantaged farmers or ranchers, or limited resource farmers or ranchers; and are there groups of producers who may submit joint applications to address resource issues of common interest and need.

(g) A listing and description of the approved MRBI-CCPI core conservation practices, conservation activity plans, enhancements, and partner activities to be implemented during the project timeframe and the general sequence of implementation of the project. Information about approved MRBI-CCPI EQIP, WHIP, and CSP practices, enhancements, and activities can be accessed at http://nrcs.usda.gov/programs/mrbi/mrbi.html. Only the conservation practices listed, which are available in the applicable State's Field Office Technical Guide, are eligible for use in MRBI. For each conservation practice, estimate the amount of practice extent (feet, acres, number, etc.) the partner expects producers to implement and the amount of financial assistance requested to support implementation of each practice through producer contracts.

(h) Also address technical assistance efforts that will be made by the partner. Describe any activities that are innovative and include outcome-based performance measures, such as water quality monitoring, to be implemented by the partner.

(i) Indicate whether the project will address specific regulatory compliance and any other outcomes the partner expects to complete during the project period.

(j) A detailed description of any requested adjustments, by program, with an explanation of why the adjustment is needed in order to achieve the objectives of the project. Requested adjustments or flexibilities must comply with statutory and regulatory requirements.

(k) A science-based description of how the proposal's objectives also may provide additional benefits by addressing energy conservation or mitigating the effects of climate change, if applicable.

(l) A description of a plan to conduct water quality monitoring and evaluation and the reporting of progress made toward achieving MRBI objectives and desired outcomes. NRCS is especially interested in proposals that adopt a three-tiered monitoring and evaluation approach designed to assess environmental outcomes at the edge-of-field, in-stream, and at the 12-digit HUC level. Higher priority will be given to projects that adopt this three-tiered approach where the partner provides resources or technical services to carry it out. Higher priority will also be given to projects that utilize environmental indicators to assess water quality and evaluate effects of conservation systems and activities implemented through the project at the edge-of-field level in conjunction with in-stream and 12-digit HUC monitoring. Information concerning water quality monitoring and evaluation can be found at http://www.nrcs.usda.gov/programs/pdf_files/water_quality_monitoring_reference_material.pdf.

(4) Partner Description:

(a) A description of the partner(s) history of working with agricultural producers to address conservation priorities.

(b) A description of how the partner(s) will collaborate to achieve the objectives of the agreement. Include:

i. The roles, responsibilities, and capabilities of the partner(s), and

ii. The financial or technical commitments of each of the partner(s) and how they will be leveraged by the Federal contribution through EQIP, WHIP, CSP, or a combination of the three. Include specifically what commitments will be used toward water quality monitoring needs. If partners who do not submit the proposal intend to commit resources, a letter or other documentation from these partners confirming a commitment of specified resources is required.

(c) A description of the resources (financial and technical assistance) requested from each of the applicable NRCS programs (EQIP, WHIP, and CSP) and the non-Federal resources provided by the partner that will be leveraged by the Federal contribution. Partners need to clearly state, by project objective, how they intend to leverage Federal funds along with partner resources. The funding and time contribution by agricultural producers to implement agreed-to conservation practices and enhancements in program contracts will not be considered any part of a match from the potential partner for purposes of CCPI.

(d) A description of how the partner will facilitate the submission of landowner applications.

(e) A description of how the partner will provide for outreach to beginning farmers or ranchers, limited resource farmers or ranchers, socially disadvantaged farmers or ranchers, and Indian tribes.

National Ranking Considerations

The agency will evaluate proposals using a national competitive process. A higher priority may be given to proposals that:

(a) Have a high percentage of producers actively farming or managing working agricultural or nonindustrial private forest lands included in the proposed project area;

(b) Significantly leverage non-Federal financial and technical resources and coordinate with other local, State, or Federal efforts. This includes resources committed to provide for water quality monitoring and evaluation of conservation practices;

(c) Integrate both WREP and CCPI within a project area;

(d) Deliver high percentages of applied conservation practices to address water quality, wildlife habitat, and wetland restoration;

(e) Provide innovation in approved conservation practices, conservation methods, and delivery, including outcome-based performance measures and methods such as adaptive management strategies;

(f) Complete the application of the conservation practices and activities on all of the covered program contracts or cost-share agreements in 4 years or less;

(g) Assist the participants in meeting local, State, and Federal regulatory requirements;

(h) Provide for environmental monitoring and evaluation of conservation practices, enhancements, and activities;

(i) Provide for outreach to, and participation of, beginning farmers or ranchers, socially disadvantaged farmers or ranchers, limited resource farmers or ranchers, and Indian tribes within the proposed project area;

(j) Have a high potential to achieve MRBI water quality objectives of nitrogen and sediment reductions leaving the field; and

(k) Identify other factors and criteria which best achieve the purposes of MRBI-CCPI.

Part C—The Wetlands Reserve Enhancement Program Component of MRBI

Availability of Funding

Effective upon publication of this notice, NRCS on behalf of CCC, announces that within the designated focus areas in the Mississippi River Basin Watersheds, up to $25 million in financial assistance funds are available in FY 2011 for the WREP to eligible participants through approved partnership projects within the 43 designated 8-digit HUC focus area watersheds in the following states: Arkansas, Illinois, Indiana, Iowa, Kentucky, Louisiana, Minnesota, Mississippi, Missouri, Ohio, Tennessee, South Dakota, and Wisconsin.

Under WREP, NRCS enters into multi-year agreements with eligible State and local governments, nongovernmental organizations, and Indian tribes to target and leverage resources to carry out high priority wetland protection, restoration, and enhancement activities; and improve water quality and wildlife habitat. Eligible partners should submit complete proposals to the addresses listed in this notice addressing the MRBI conservation objectives to be achieved in one or more 12-digit HUC watersheds within the 43 eligible 8-digit HUC focus area watersheds. Proposals that integrate a MRBI-WREP proposal with a MRBI-CCPI project in one or more 12-digit HUC watersheds will be given additional consideration in the selection process.

Overview

WREP is a voluntary conservation program which is a component of WRP. WREP leverages resources of eligible partners to provide financial assistance to eligible landowners to protect, restore, and enhance high priority wetlands; improve wildlife habitat; and improve water quality. WREP partners are required to contribute a match as detailed in the proposal requirement section at 3(e). Proposals which include additional partner resources will be given higher priority consideration in the selection process.

WREP financial assistance is delivered to eligible landowners and partners in approved project areas through easement acquisition, conservation program contracts, cooperative agreements, contribution agreements, or Federal contracts. Restoration may be achieved through payments to other parties who conduct the restoration activities.

Only States and local units of government, Indian tribes, and nongovernmental organizations are eligible to submit a proposal and enter into agreements with NRCS. A nongovernmental organization is an organization described in section 501(c) (3) of the Internal Revenue Code of 1986. Individual landowners may not submit WREP proposals through this submission process. However, once a WREP project has been approved and announced, eligible landowners may apply for WREP through their local NRCS office. As part of the agreement, approved partners may also help facilitate the submission of landowner applications, provide additional technical or financial assistance to landowners, and provide other resources as defined in the agreement.

Written proposals are to be submitted by eligible partners, and project evaluation will be based upon a competitive process and the criteria established in this notice. Once NRCS selects a partner's proposal, landowners within the selected project area may submit an application directly to NRCS for participation in WRP. Individual landowner applications will be evaluated and ranked along with other applications in the watershed or geographic project area, when applicable, to ensure that the properties selected for funding will achieve project objectives.

Wetland restoration and enhancement actions will be designed to improve water quality, and maximize wildlife habitat benefits and wetland functions and values according to the WRP regulation, 7 CFR part 1467, and NRCS conservation practice standards. Additionally, the successful restoration of land and the resultant wetland values must take into consideration the cost of such restoration, as required by the WRP statute and reflected in the WRP regulation at 7 CFR part 1467.4. Proposals must conform to the WRP guidelines for restoration and management of lands subject to a WRP easement.

Benefits to the partners in WREP agreements include:

• Involvement in wetland restorations in high priority MRBI focus areas;

• Ability to cost-share restoration or enhancement components beyond those required by NRCS;

• Ability to participate in management or monitoring of selected project locations; and

• Opportunity to utilize innovative restoration methods and practices.

Land Eligibility

The land eligibility criteria for WREP are the same as for WRP and are listed in 7 CFR § 1467.4.

Proposal Requirements

For consideration, the proposal must be in the following format and contain the information set forth below.

(1) Proposal Cover and Summary. The first few pages of the proposal must include—

(a) Project Title.

(b) Project Director/Manager name, telephone, and mailing and email address.

(c) Name and contact information for lead partner submitting proposal and other collaborating partners.

(d) Short general summary of project, including:

(i) Potential acres to be enrolled in the project area,

(ii) Designated 12-digit watershed(s) where the project is located, including the State(s), and county(s). Include a general location map,

(iii) Proposed project start and end dates that do not exceed 4 consecutive years including FY 2011,

(iv) The project objectives and resource concerns to be addressed, and

(v) Total amount of financial assistance being requested.

(2) Project Natural Resource Objectives and Actions. The proposal must—

(a) Identify and provide detail about the wildlife and water quality concerns to be addressed and how the proposal's objectives will address those concerns. Objectives should be specific, measurable, achievable, results-oriented, and include a timeline for completion.

(b) For each objective, identify the actions to be completed to achieve that objective and address the identified natural resource concern. Specify which actions are to be addressed through this project using WREP assistance, and which are being addressed through alternate non-Federal funding sources or other resources provided.

(c) Identify the total acres that require wetland protection, restoration, and enhancement.

(3) Detailed Project Description. Information provided in the proposal must include—

(a) A description of the partner(s) history of working cooperatively with landowners on conservation easements.

(b) A description of the watershed characteristics within the designated focus area covered by the proposal including a detailed watershed map that indicates the project location. The description should include information related to land use types, vegetation, soils, hydrology, potential sources of water quality impairments, occurrences of at-risk species, proximity to other protected areas, and a summary of resource concerns. Proposals should state whether a MRBI-WREP proposal is integrated with a MRBI-CCPI proposed project and include the name of the proposed project.

(c) A description of the partner(s) and the roles, responsibilities, and capabilities of the partner(s). Proposals which include resources from partners other than the lead partner must include a letter or other documentation confirming the commitment of resources.

(d) A description of the project duration, plan of action, and project implementation schedule. Project proposals cannot exceed 4 years.

(e) A description of the financial assistance resources that are requested through WREP, and the non-Federal resources provided by the partner(s) that will be leveraged by the Federal contribution. WREP requires partners to contribute a match of:

(i) In-kind only contributions of at least 20 percent of the restoration costs,

(ii) Cash only contributions of at least 5 percent of the restoration costs, or

(iii) A combination of in-kind and cash contributions of at least 20 percent of the restoration costs.

Proposals which include additional partner resources will be given additional consideration in the selection process. Contributions provided by the partners to achieve additional ranking points can be in the form of technical or financial assistance for the protection, restoration, and enhancement of the wetland. Contributions can also be in the form of assistance with management and monitoring activities. Contributions above the match requirement can be cash or in-kind equipment or services. Partners may provide incentives to landowners to participate in WREP; however, incentive payments will not be considered part of the match requirement. Incentives include sign-up bonuses, practice incentive payments, or similar activities not funded through WRP.

(f) Total budget for the project including all partner resources which will be leveraged for the project and the amount of WREP financial assistance being requested for project broken out by fiscal year with totals. Include a description of the amount of funds needed annually for easement acquisition and wetland restoration and enhancement activities.

(g) A description of non-Federal resources that will be available for implementation of the proposal. Proposals which include additional non-Federal resources will be given higher consideration in the selection process. The partner needs to state clearly how they intend to leverage Federal funds along with partner resources. Landowner contributions in the implementation of agreed-to wetland restoration and enhancement practices may not be considered any part of a match from the potential partner for purposes of WREP. Partners will also be required to submit a plan for monitoring, evaluating, and reporting progress made toward achieving the objectives of the agreement.

(h) An estimate of the percentage of potential landowners, or estimate of the percentage of acres likely to be enrolled within the project area, compared to the total number of potential landowners or acres located in the project area. A statement on how the partner will encourage participation to guarantee success of the project. It is not necessary for a target area to involve multiple landowners to be selected. Projects will be evaluated based on the ecological merits of the proposal and contributions by the partners.

(i) A statement describing how the partner will provide outreach, especially to encourage participation by Indian tribes, beginning farmers or ranchers, socially disadvantaged farmers or ranchers, and limited resource farmers or ranchers.

(j) A description of the wetland protection, restoration, and enhancement activities to be implemented during the project timeframe, and the general sequence of implementation of the project. Activities may include those efforts undertaken by the partner and those that the partner requests NRCS to address through financial support.

National Ranking Considerations

The appropriate State Conservationist will evaluate proposals using a competitive process and forward recommended proposals to the Chief for review and selection. The Chief will give a higher priority to proposals that:

(a) Have a high potential to achieve wetland restoration;

(b) Have a high potential to significantly improve water quality;

(c) Have a high potential to significantly improve wildlife habitat;

(d) Significantly leverage non-Federal financial and technical resources and coordinate with other local, State, tribal, or Federal efforts;

(e) Demonstrate the partner's history of working cooperatively with landowners on conservation easements;

(f) Provide innovation in wetland protection, restoration, and enhancement methods and outcome-based performance measures and methods;

(g) Provide evidence that wetland restoration and enhancement activities will be completed within 2 years of easement closing;

(h) Provide for monitoring and evaluation of the effectiveness of the restoration activities on water quality;

(i) Provide for matching financial or technical assistance funds to assist landowners with the implementation of the Wetlands Reserve Plan of Operations and associated contracts;

(j) Facilitate the submission of landowner applications;

(k) Provide for outreach to, and participation of, Indian tribes, beginning farmers or ranchers, socially disadvantaged farmers or ranchers, and limited resource farmers or ranchers within the area covered by the agreement; and

(l) Integrate a MRBI-WREP proposal with a MRBI-CCPI proposed or approved project.

Partnership Agreements

Upon proposal selection, NRCS will enter an agreement with a partner as the mechanism for partner participation in WREP. At a minimum, the agreement will address:

(a) The role of the partner;

(b) The role of NRCS;

(c) The format and frequency of reports that is required as a condition of the agreement;

(d) The Plan of Work and budget to identify other funding sources (if applicable) for financial or technical assistance;

(e) The specified project schedule and timeframe;

(f) Whether the agreement will serve as an obligating document or whether funds will be obligated under a separate agreement with the partner or with a third party; and

(g) Other requirements deemed necessary by NRCS to achieve purposes of the WRP.

Landowner Application

Landowners must meet the eligibility requirements of WRP, as published in 7 CFR part 1467. Landowners interested in participating may apply for designated WREP funds at their local service center after WREP proposals are selected. In FY 2011, NRCS will make WREP funds available to eligible landowners to enroll land under a permanent easement, a 30-year easement, a 30-year contract on acreage owned by Indian tribes, or through a Restoration Agreement.

NRCS and the partner may assist landowners in determining whether the application is appropriate for WREP depending on the wetland protection, restoration, and enhancement activities that the applicant seeks to install or perform.

Signed the 20th day of November, 2010, in Washington, DC.
Dave White,
Vice President, Commodity Credit Corporation and Chief, Natural Resources Conservation Service.

[FR Doc. 2010-29958 Filed 11-26-10; 8:45 am]

BILLING CODE 3410-16-P